ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled its regular business meetings to take place in Washington, DC on Tuesday and Wednesday, July 13-14, 2004, at the times and location noted below.

DATES: The schedule of events is as follows:

Tuesday, July 13, 2004

10:30-Noon—Passenger Vessels Ad Hoc Committee (Closed)

1:30-3 p.m.—Passenger Vessels Ad Hoc Committee (Closed)

3-4—International Outreach Ad Hoc Committee

4-5:30—Technical Programs Committee

Wednesday, July 14, 2004

9:30-11 a.m.—Courthouse Access Ad Hoc Committee

11-Noon—Planning and Budget Committee

1:30-3 p.m.—Board Meeting

ADDRESSES: The meetings will be held at the Marriott at Metro Center Hotel, 775 12th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the May 12, 2004 Board Meeting Minutes.

• Ad Hoc Committee on International Outreach.

• Ad Hoc Committee on Courthouse Access.

• Technical Programs Committee.

• Planning and Budget Committee.

Closed Meeting

• Passenger Vessels Accessibility Guidelines.

All meetings are accessible to persons with disabilities. Sign language interpreters and an assistive listening system are available at all meetings. Persons attending Board meetings are requested to refrain from using perfume, cologne, and other fragrances for the comfort of other participants.

James J. Raggio,
General Counsel.

[FR Doc. 04-14862 Filed 6-29-04; 8:45 am]

BILLING CODE 8150-01-P